DEPARTMENT OF ENERGY

Federal Energy Regulatory Commission

[Docket No. ER04-691-000]

Midwest Independent Transmission System Operator, Inc.; Notice of Designation of Certain Commission Personnel as Non-Decisional

May 6, 2004.

On March 31, 2004, the Midwest Independent Transmission System Operator (Midwest ISO) filed a revised Open Access Transmission and Energy Markets Tariff in the above-docketed proceeding. For purposes of the above-captioned docket (and all subdockets in that docket), the following Commission employees are non-decisional authorities and non-decisional employees:

Wilbur Earley, Director—Regional Market Coordination, of the Commission's Office of Markets, Tariffs and Rates

William Meroney, Senior Advisor, of the Commission's Office of Market Oversight and Investigations

See 18 CFR 385.102(a) (2003) (definition of decisional authority); 18 CFR 385.2201 (2003) (definition of decisional employee).

Magalie R. Salas,
Secretary.

[FR Doc. E4-1157 Filed 5-12-04; 8:45 am]

BILLING CODE 6717-01-P